DEPARTMENT OF DEFENSE

Office of the Secretary

Finding of No Significant Impact Air Force Memorial, Naval Annex Site Arlington, VA

ACTION: Notice.

On Tuesday, August 3, 2004 (69 FR 46523), the Department of Defense inadvertently published a duplication of the Federal Register notice that was published on April 3, 2003 68 FR 16264). This notice publishes the intended notice.

The Director, Defense Facilities Directorate finds that the project described in the Environmental Assessment, Air Force Memorial, Naval Annex Site, March 2003, is not a major Federal action significantly affecting the quality of the human environment. Therefore, no environmental impact statement will be prepared. This decision is in accordance with the National Environmental Policy Act of 1969, as amended (NEPA, 42 U.S. Code 4321 et seq.), the implementing regulations of the Council on Environmental Quality (CEQ, 40 CFR 1500-1508), and DoD Instruction 4715.9, Environmental Planning and Analysis.

Congress authorized the proposed action to establish an Air Force Memorial on three acres of the Naval Annex Site to honor he men and women who served in the U.S. Air Force and its predecessors. The main element of the Memorial would be three curving vertical spires, from 200 to 270 feet high, that symbolize Air Force core values, people, and key mission ingredients. Complimentary elements include a parade ground, honor guard sculpture, contemplative outdoor areas, seating, walkways, and parking. The proposed action includes demolition of Wing 8 of the Naval Annex.

The Environmental Assessment identified project alternatives, affected environment, environmental consequences, and proposed mitigation measures. It examined potential impacts on socio-economic conditions, cultural and visual resources, transportation systems, physical and biological resources, utilities and infrastructure, and cumulative impact.

Public involvement included presentations and applications to relevant groups and agencies. The Department of Defense (DoD) Washington Headquarters Services (WHS) published a Notice of Availability of Environmental Assessment in local newspapers on March 31, 2003, and in the Federal Register on April 3, 2003. The document was made available by mail Web site, and library to interested or affected people and agencies. The 30-day comment period closed May 5, 2003. The Response to Comments on Environmental Assessment, June 2004, includes all comments received and how they were addressed. The comments and response address environmental issues and mitigation measures under the following topics: Height and lighting of memorial and site design; agency reviews; and natural resources.

The Environmental Assessment and Response to Comments on Environmental Assessment are available at http://www.dtic.mil/ref/Safety/index.htm or by contacting the WHS Defense Facilities Directorate (703-697-7241) or the Air Force Memorial Foundation (703-247-5859).

Dated: August 3, 2004.
L.M. Bynum,
Alternate OSD Federal Register Liaison Officer, Department of Defense.

[FR Doc. 04-18058 Filed 8-4-04; 9:12 am]

BILLING CODE 5001-06-M